FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 201360.

Agreement Name: CMA CGM/COSCO Shipping Vessel Sharing Agreement—Central America & Caribbean/U.S. Gulf.

Parties: CMA CGM S.A. and COSCO Shipping Lines Co. Ltd.

Synopsis: The Agreement authorizes CMA CGM and COSCO to cooperate on a liner service in the trade between Honduras, Guatemala, Colombia, Jamaica, and the U.S. Gulf Coast.

Proposed Effective Date: 5/14/2021.

Location: https://www2.fmc.gov/FMC.Agreements.Web/Public/AgreementHistory/43502.

Agreement No.: 201103-016.

Agreement Name: Memorandum Agreement of December 14, 1983 Concerning Assessments to Pay ILWU-PMA Employee Benefit Costs.

Parties: Pacific Maritime Association and the International Longshoremen's and Warehousemen's Union.

Synopsis: The amendment revises the divisor for the man-hour base assessment rate in the agreement, and also accordingly revises various figures set forth in Appendix 1.

Proposed Effective Date: 5/17/2021.

Location: https://www2.fmc.gov/FMC.Agreements.Web/Public/AgreementHistory/10164.

Dated: May 21, 2021.
Rachel E. Dickon,
Secretary.

[FR Doc. 2021-11141 Filed 5-25-21; 8:45 am]

BILLING CODE 6730-02-P